DEPARTMENT OF JUSTICE

Federal Bureau of Investigation

Meeting of the Compact Council for the National Crime Prevention and Privacy Compact

AGENCY: Federal Bureau of Investigation, DoJ.

ACTION: Meeting notice.

SUMMARY: The purpose of this notice is to announce a meeting of the Compact Council created by the National Crime Prevention and Privacy Compact Act of 1998 (Compact). Thus far, the federal government and sixteen states are parties to the Compact which governs the exchange of criminal history records for licensing, employment, and similar purposes. The Compact also provides a legal framework for the establishment of a cooperative federal-state system to exchange such records.

Matters for discussion are expected to include: (1) United States Customs Service Request for Access to the Interstate Identification Index (III) for NonCriminal Justice Purposes, (2) Immigration and Naturalization Service (INS) Request to Allow State Repository Criminal History Maintenance and Dissemination, (3) Standards/Procedures for Identity Verification, (4) Proposed Sanctions Rule, (5) National Applicant Database Requests, (6) Use of the III for Background Checks on Applicants' References, Relatives, Friends, and Associates, (7) Revised Rule to Allow INS Use of III for Emergency Child Placement, (8) Qualification Requirements and Audit Criteria, (9) United States Department of Justice Requirement for System Use, and (10) A Safer Nation—Proposed Briefing Document.

The meeting will be open to the public on a first-come, first-seated basis. Any member of the public wishing to file a written statement with the Compact Council or wishing to address this session of the Compact Council should notify Ms. Cathy L. Morrison at (304) 625-2736, at least 24 hours prior to the start of the session. The notification should contain the requestor's name and corporate designation, consumer affiliation, or government designation, along with a short statement describing the topic to be addressed, and the time needed for the presentation. Requestors will ordinarily be allowed up to 15 minutes to present a topic.

DATES AND TIMES: The Compact Council will meet in open session from 9 a.m. until 5 p.m. on October 9-10, 2002. In addition, an education symposium concerning the Compact is being hosted as a collaborative effort of the FBI's Criminal Justice Information Services (CJIS) Division, the Compact Council, the National Consortium for Justice Information and Statistics (SEARCH), and the Bureau of Justice Statistics. The symposium is tailored to address enactment strategies, the potential benefits and practical applications of Compact ratification. The symposium will be held October 8, 2002, from 8 a.m. until 6 p.m. at the Wyndham Hotel in Washington, DC.

ADDRESSES: The Compact Council meeting and symposium will take place at the Wyndham Washington, DC, 1400 M Street, NW., Washington, DC, telephone (202) 429-1700.

FOR FURTHER INFORMATION CONTACT: Inquiries may be addressed to Ms. Cathy L. Morrison, Interim Compact Officer, Compact Council Office, Module C3, 1000 Custer Hollow Road, Clarksburg, West Virginia 26306-0147, telephone (304) 625-2736, facsimile (304) 625-5388.

Dated: August 27, 2002.
Thomas E. Bush III,
Section Chief, Programs Development Section, Federal Bureau of Investigation.

[FR Doc. 02-22818 Filed 9-6-02; 8:45 am]

BILLING CODE 4410-02-MA